DEPARTMENT OF ENERGY

Federal Energy Regulatory Commission

[Docket No. CP12-499-000]

East Tennessee Natural Gas, LLC; Notice of Request Under Blanket Authorization

Take notice that on August 9, 2012, East Tennessee Natural Gas, LLC (East Tennessee), 5400 Westheimer Court, Houston, Texas 77056-5310, filed in Docket No. CP12-499-000, an application pursuant to Sections 157.205 and 157.216 of the Commission's Regulations under the Natural Gas Act (NGA) as amended, to abandon in place two standby compressor units and abandon in place or remove related appurtenant equipment at its Glade Spring Compressor Station in Washington County, Virginia, under East Tennessee's blanket certificate issued in Docket No. CP82-412-000,¹ all as more fully set forth in the application which is on file with the Commission and open to the public for inspection.

¹ 20 FERC ¶ 62,413 (1982).

East Tennessee proposes to abandon in place two standby 660 horsepower reciprocating natural gas compressor units and abandon in place or remove related appurtenant equipment at the Glade Spring Compressor Station. East Tennessee states that the two standby compressor units are outdated and their abandonment would have no effect on any of East Tennessee's transportation customers. East Tennessee also states that in order to install additional noise control equipment and update the two compressor units would require significant capital investment. Further, East Tennessee estimates that it would cost $15,900,942 to construct these facilities today.

Any questions concerning this application may be directed to Lisa A. Connolly, General Manager, Rates & Certificates, East Tennessee Natural Gas, LLC, P.O. Box 1642, Houston, Texas 77251-1642, or via telephone at (713) 627-4102, facsimile (713) 627-5947, or via email: laconnolly@spectraenergy.com.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefor, the proposed activity shall be deemed to be authorized effective the day after the time allowed for filing a protest. If a protest is filed and not withdrawn within 30 days after the allowed time for filing a protest, the instant request shall be treated as an application for authorization pursuant to Section 7 of the NGA.

Dated: August 20, 2012.
Kimberly D. Bose,
Secretary.

[FR Doc. 2012-20907 Filed 8-24-12; 8:45 am]

BILLING CODE 6717-01-P